DEPARTMENT OF THE TREASURY

Office of Foreign Assets Control

31 CFR Part 548

Publication of Belarus Sanctions Regulations Web General License 10

AGENCY: Office of Foreign Assets Control, Treasury.

ACTION: Publication of a web general license.

SUMMARY: The Department of the Treasury's Office of Foreign Assets Control (OFAC) is publishing a general license (GL) issued pursuant to the Belarus Sanctions Regulations: GL 10, which was previously made available on OFAC's website.

DATES: GL 10 was issued on December 5, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490 or https://ofac.treasury.gov/contact-ofac.

SUPPLEMENTARY INFORMATION:

Electronic Availability

This document and additional information concerning OFAC are available on OFAC's website: https://ofac.treasury.gov.

Background

On December 5, 2023, OFAC issued GL 10 to authorize certain transactions otherwise prohibited by the Belarus Sanctions Regulations, 31 CFR part 548. GL 10 was made available on OFAC's website (https://ofac.treasury.gov) when it was issued. GL 10 is now expired. The text of this GL is provided below.

OFFICE OF FOREIGN ASSETS CONTROL

Belarus Sanctions Regulations

31 CFR Part 548

GENERAL LICENSE NO. 10

Authorizing the Wind Down of Transactions Involving Tabak Invest LLC

(a) Except as provided in paragraph (b) of this general license, all transactions prohibited by the Belarus Sanctions Regulations, 31 CFR part 548 (BSR), that are ordinarily incident and necessary to the wind down of any transaction involving Tabak Invest LLC (“Tabak Invest”), or any entity in which Tabak Invest owns, directly or indirectly, a 50 percent or greater interest, are authorized through 12:01 a.m. eastern standard time, February 2, 2024, provided that any payment to a blocked person is made into a blocked account at a U.S. financial institution in accordance with the BSR.

(b) This general license does not authorize any transactions otherwise prohibited by the BSR, including transactions involving any person blocked pursuant to the BSR other than the blocked persons described in paragraph (a), unless separately authorized.

Bradley T. Smith,

Director, Office of Foreign Assets Control.

Dated: December 5, 2023.

Lisa M. Palluconi,
Acting Director, Office of Foreign Assets Control.

[FR Doc. 2024-26425 Filed 11-13-24; 8:45 am]

BILLING CODE 4810-AL-P